DEPARTMENT OF COMMERCE

Submission for OMB Review; Comment Request

The Department of Commerce has submitted to the Office of Management and Budget (OMB) for clearance the following proposal for collection of information under the emergency provisions of the Paperwork Reduction Act (44 U.S.C. Chapter 35).

Agency: National Oceanic and Atmospheric Administration (NOAA).

Title: Coastal Zone Management Program Administration.

Form Number(s): None.

OMB Approval Number: 0648-0119.

Type of Request: Emergency submission.

Burden Hours: 17,974.

Number of Respondents: 35.

Average Hours Per Response: 514 hours.

Needs and Uses: Coastal zone management grants provide funds to states and territories to implement federally approved coastal zone management plans; to revise assessment documents and multi-year strategies; to submit requests to approve amendments or program changes; to submit section 306A documentation on their approved coastal zone management plans; and to submit coastal management performance measurement data. The funds are also provided to states and territories to develop their coastal management documents. The information submitted will be used to determine if activities achieve national coastal management and enhancement objectives, and if states and territories are adhering to their approved plans.

Affected Public: State, local or tribal government.

Frequency: Annually; semiannually; and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent before May 30, 2005 to David Rostker, OMB Desk Officer, FAX number (202) 395-7285, or David_Rostker@omb.eop.gov.

Dated: April 14, 2005.
Gwellnar Banks,
Management Analyst, Office of the Chief Information Officer.

[FR Doc. 05-7777 Filed 4-18-05; 8:45 am]

BILLING CODE 3510-08-P